DEPARTMENT OF ENERGY

Distribution of Residual Citronelle Settlement Agreement Funds

AGENCY: Office of Hearings and Appeals, Department of Energy.

ACTION: Implementation of special refund procedures.

SUMMARY: The Office of Hearings and Appeals (OHA) of the Department of Energy (DOE) finalizes the procedures for the disbursement of residual funds (totaling approximately $59,000) remaining in various Citronelle Settlement Agreement escrow accounts to the parties to the Agreement.

DATES: This plan is applicable October 18, 2018.

ADDRESSES: Inquiries should be sent to the Office of Hearings and Appeals, U.S. Department of Energy, 1000 Independence Ave. SW, Washington, DC 20585-0107, (202) 287-1550, Email: kristin.martin@hq.doe.gov.

FOR FURTHER INFORMATION CONTACT: Kristin L. Martin, Attorney-Advisor, Office of Hearings and Appeals, U.S. Department of Energy, 1000 Independence Ave. SW, Washington, DC 20585-0107, (202) 287-1550, Email: kristin.martin@hq.doe.gov.

SUPPLEMENTARY INFORMATION: In this Notice, we announce the final procedures for the distribution of the remaining Citronelle Settlement Agreement Funds.

The Office of Hearings and Appeals published a Notice of proposed final procedures for the distribution of the Citronelle Settlement Agreement Funds in the Federal Register on September 11, 2018. 83 FR 45916 (September 11, 2018). In the September 11 Notice, we described the history of the Citronelle Settlement Agreement and its relevant contents. We then set forth a proposed plan to distribute the remaining Settlement Agreement funds.

The Office of Hearings and Appeals provided a 30 day opportunity for public comment on the proposed plan. No comments were submitted during that time. Accordingly, no changes have been made to the final plan.

Procedure for Final Distribution of Citronelle Settlement Agreement Funds

The Citronelle Settlement Agreement funds will be distributed according to the following plan. Any funds remaining after the final distributions made in accordance with this plan will be considered unclaimed and will be transferred to the U.S. Treasury. Final distribution amounts will be calculated using the distribution percentages listed in an appendix to this Notice on October 18, 2018.

A. The Non-Litigant Refiners Account

The Agreement requires that the balance of the Non-Litigant Refiners account be distributed to the Refiner-Litigants through an escrow account established for that purpose for the initial distribution of Citronelle funds and managed by the law firm Miller & Chevalier. Miller & Chevalier no longer represents the Refiner-Litigants. Further, DOE has not been able to obtain documentation regarding how previous Citronelle distributions were made among the various firms comprising the Refiner-Litigants. In light of these facts and because the Citronelle distribution proportions agreed to by the Refiner-Litigants were not a part of the Agreement and thus not binding on DOE, we propose that the Refiner-Litigant portion of the funds be divided in equal proportions for the firms, or successor firms, listed in Exhibit A of the Agreement. A list of these firms is included as an appendix to this Notice. If a listed firm, or successor firm, does not submit the Required Information described below by the specified deadline, the funds will be considered unclaimed and will be transferred to the U.S. Treasury.

B. The Airlines Account

The remaining Airlines account funds will be split according to the percentages prescribed in the Settlement Agreement. Two sevenths of the Airlines account funds will be distributed to the United States Treasury. Two sevenths of the Airlines account funds will be distributed to the Refiner-Litigants Escrow Account. Two sevenths of the Airlines account funds will be distributed to the States in the proportions listed in Exhibit L of the Agreement.

One seventh of the Airlines account funds will be allocated to the End-Users account, which will be distributed in the same proportions as the residual Subpart V funds were distributed pursuant to our notice in 72 FR 46461, 46462 (August 14, 2007). The funds will be split equally, with half distributed to the United States Treasury and half distributed to the States. The funds distributed to the States will be divided in the proportions used for the final distribution of the Subpart V funds, which are identical to those listed in Exhibit L of the Agreement. All funds distributed to the States are subject to the same restricted uses as those received by that State as a result of the settlement of the case known as In Re: Stripper Well Litigation, M.D.L. No. 378. A list of distribution percentages is included as an appendix to this Notice. If a State does not submit the Required Information described below by the specified deadline, the funds will be considered unclaimed and will be transferred to the U.S. Treasury.

C. Required Information

In order to receive its allotted funds, each Recipient, including State Recipients, must submit the following no later than January 16, 2019.

• Statement of Intent: The Statement should be brief and include the Recipient's name and the representative's authority to claim the Recipient's funds.

• Information Required by the Agreement: The Agreement requires that certain Releases of Claims be executed and submitted to DOE before Recipients may receive distributions.

○ If a Recipient has not ever submitted the relevant Release of Claims, it should contact DOE at the below address to obtain a copy of the release, and should submit the executed release with the other required information described in this section.

○ If a Recipient has previously submitted the relevant Release of Claims, it should submit to DOE a notarized statement certifying that it has submitted the release. The notarized statement should be submitted with the other required information described in this section.

• Electronic Funds Transfer (EFT) Information: Each Recipient must submit all information necessary for DOE to make an electronic distribution of funds, including the name and contact information (phone number, email address, and mailing address) of a person designated to be the Point of Contact, banking information, and Tax ID number. DOE will not contact Recipients regarding problems, discrepancies, or other issues with EFT information. DOE will notify the designated Point of Contact when the EFT is initiated. If an EFT is unsuccessful and the Recipient does not contact DOE to correct the error by the 14th day following the EFT initiation, the amount not distributed will be considered unclaimed and will be transferred to the United States Treasury.

Submissions should in PDF format and must be submitted by email to OHA.Filings@hq.doe.gov. The subject line should include “Citronelle Settlement Agreement Recipient Documents” and the name of the State or other Recipient. The Releases of Claims contained in the Agreement's Exhibits may be obtained by contacting Kristin L. Martin, Attorney-Advisor, Office of Hearings and Appeals, by email at Kristin.Martin@hq.doe.gov, or by telephone at 202-287-1550.

Appendix A—Proposed Distribution Percentages and List of Refiner-Litigants

A. Citronelle Airline Account Funds

Refiner-Litigants 28.57142857142860000%

• Each Refiner-Litigant Entity is entitled to 0.865800865800867% of the total Airline Account Funds.

United States Treasury 35.71428571428570000%

Alabama 0.54804016064259400%

Alaska 0.13818786523157600%

American Samoa 0.00636083244822057%

Arizona 0.36634454245826900%

Arkansas 0.45449277491405100%

California 3.26944016176838000%

Colorado 0.38401187480512000%

Connecticut 0.60652108584973400%

Delaware 0.16956338168467300%

District of Columbia 0.08531354824083700%

Florida 1.65010975432690000%

Georgia 0.79531816470797200%

Guam 0.05263184468083650%

Hawaii 0.24538846523323400%

Idaho 0.14657787754978300%

Illinois 1.64040323767528000%

Indiana 0.87972416423889800%

Iowa 0.46535022190036900%

Kansas 0.40036549196707900%

Kentucky 0.45780595111052400%

Louisiana 0.84950225360465700%

Maine 0.26254694847105300%

Maryland 0.63946084248035600%

Massachusetts 1.22259929840854000%

Michigan 1.21688372104464000%

Minnesota 0.61974582045967800%

Mississippi 0.48769574322855100%

Missouri 0.70516872255815100%

Montana 0.16165040119813900%

Nebraska 0.26336705431455200%

Nevada 0.14466342873599700%

New Hampshire 0.16645300019308600%

New Jersey 1.31838653652643000%

New Mexico 0.23395138247190300%

New York 2.76553651908726000%

No. Mariana Islands 0.00329014604847478%

North Carolina 0.80159665169915200%

North Dakota 0.13090382462201500%

Ohio 1.34202999992372000%

Oklahoma 0.44109500817469100%

Oregon 0.35401620870755400%

Pennsylvania 1.66287802161090000%

Puerto Rico 0.34023415151078600%

Rhode Island 0.14160268359603600%

South Carolina 0.42578568669101500%

South Dakota 0.12770074547322300%

Tennessee 0.57787034891897200%

Texas 2.63486674686911000%

Utah 0.21069728945457100%

Vermont 0.08547809926032230%

Virgin Islands 0.16520939843142600%

Virginia 0.91659346391607800%

Washington 0.54540262288818800%

West Virginia 0.21344547509163300%

Wisconsin 0.62838735451951800%

Wyoming 0.14563871266099600%

Total 35.71428571428570000%

B. Non-Litigant Refiners Account Funds

Refiner-Litigants 100%

• Each Refiner-Litigant Entity is entitled to 3.03% of the Non-Litigant Refiners Account Funds.

C. List of Refiner-Litigants

Amoco Oil Company

Ashland Oil, Inc.

Atlantic Richfield Company

Axel Johnson, Inc.

BHP Petroleum Americas Refining, Inc.

Castle Oil Corporation

Charter International Oil Company

Charter Oil Company

Chevron U.S.A., Inc.

Clark Oil & Refining Corporation

The Coastal Corporation

Commonwealth Oil Refining Company

Conoco Inc.

Crown Central Petroleum corp.

Diamond Shamrock Refining & Marketing Company

Exxon Corporation

Fina Oil and Chemical Company

Gulf States Oil & Refining Co.

Kerr-McGee Refining Corporation

La Gloria Oil and Gas Company

Marathon Oil Company

Mobil Oil Corporation

New England Petroleum Corporation

Oxy USA Inc.

Shell Oil Company

Sprague Energy Corporation

Tesoro Petroleum Corporation

Texaco Inc.

Texaco Refining & Marketing Inc.

Tosco Corporation

Total Petroleum Inc.

Union Pacific Resources Company

Wyatt Energy Inc.

Signed in Washington, DC on: October 12, 2018.
Poli A. Marmolejos,
Director, Office of Hearings and Appeals.

[FR Doc. 2018-22705 Filed 10-17-18; 8:45 am]

BILLING CODE 6450-01-P